DEPARTMENT OF THE INTERIOR

Bureau of Indian Affairs

[167 A2100DD/AAKC001030/A0A501010.999900]

Sovereignty in Indian Education

AGENCY: Bureau of Indian Affairs, Interior.

ACTION: Notice of availability and request for proposals.

SUMMARY: The Bureau of Indian Education (BIE) announces the availability of enhancement funds to tribes and their tribal education departments (TEDs) to promote tribal control and operation of BIE-funded schools on their reservations. This notice invites tribes with at least one BIE-funded school on their reservation/Indian land to submit grant proposals.

DATES: Grant proposals must be received by December 18, 2015, at 4:00 p.m. Eastern Time. BIE will hold pre-grant proposal training sessions. See SUPPLEMENTARY INFORMATION section for more information.

ADDRESSES: Complete details on requirements for proposals and the evaluation and selection process can be found on the BIE Web site at http://www.bie.edu. Submit grant applications to: Bureau of Indian Education, Attn: Wendy Greyeyes, 1849 C Street NW., MS-4655-MIB, Washington, DC 20240. Email submissions will be accepted at this address: wendy.greyeyes@bie.edu. Limit email submissions to attachments compatible with Microsoft Office Word 2007 or later and files with a .pdf file extension. Emailed submissions may not exceed 3MB total in size. Fax submissions are NOT acceptable.

FOR FURTHER INFORMATION CONTACT: Ms. Wendy Greyeyes, Bureau of Indian Education, Office of the Director, Washington, DC 20240, (202) 208-5810.

SUPPLEMENTARY INFORMATION:

A. Background

In 2013, the Secretary of the Interior and the Secretary of Education convened an American Indian Education Study Group (Study Group) to diagnose the systemic challenges facing the BIE and to propose a comprehensive plan for reform to ensure all students attending BIE-funded schools receive a world-class education. The Study Group drafted a framework for reform based on several listening sessions in the fall of 2013 with tribal leaders, Indian educators and others throughout Indian Country on how to facilitate tribal sovereignty in American Indian education and how to improve educational outcomes for students at BIE-funded schools. Overall, the Study Group met with nearly 400 individuals and received nearly 200 comments that helped it prepare the draft framework for educational reform that became the subject of four tribal consultation sessions held in April and May of 2014. These efforts resulted in the Blueprint for Reform, which was released by the Department of the Interior (DOI) on June 13, 2014.

Acting on the recommendations in the Blueprint for Reform, BIE will award enhancement funds to tribes and their tribal education agencies to promote tribal control and operation of BIE-funded schools on their Indian reservations. The purpose of these enhancements is to support the tribes' capacity to manage and operate tribally controlled schools as defined in the Tribally Controlled Schools Act of 1988 (Pub. L. 100-297). These funds will: (a) Support the development of a school-reform plan to improve educational outcomes for students, and: (b) improve efficiencies and effectiveness in the operation of BIE-funded schools within a reservation.

Enhancement funding is a two-year program, and awards will range from $100,000 to $200,000 per fiscal year. The amounts are dependent on the number of schools involved, number of students, complexity of creating a new tribally managed school system and the tribe's technical approach. Tribes with at least one Bureau-funded school on or near their reservation are eligible for these funds. These enhancements will provide funds for the tribe to:

• Develop an implementation plan that will reform a tribe's current organizational structure toward an expert and independent Tribal Education Department that will support schools and students;

• Cover the execution of the implementation plan with identified staffing, projected timelines, proposed budgets, and activities; and

• Research an alternative definition of adequate yearly progress (AYP) which is optional for applicants.

BIE is seeking proposals from tribes that support efforts to take control and operate BIE-funded schools located on the tribe's reservation. Each proposal must include a project narrative, a budget narrative, a work plan outline, and a Project Director to manage the execution of the grant. Project Directors will participate in monthly collaboration meetings, submit quarterly budget updates, ensure an annual report is submitted at the end of each project year, and ultimately ensure that the tribal education department fulfills the obligations of the grant. Complete details on requirements for proposals and the evaluation and selection process can be found on the BIE Web site at the address in the ADDRESSES section of this notice. In addition, BIE will hold pre-grant proposal training as noted below:

BIE Pre-Grant Proposal Training
Activity | Date
Webinar 11 a.m. (ET) | December 8, 2015.
To register go to: https://dcma100.webex.com/dcma100/k2/j.php?MTID=t6394cada3bc9d9b28993ecb06b7e8ecd and register.
Webinar 4 p.m. (ET) | December 11, 2015.
To register go to: https://dcma100.webex.com/dcma100/k2/j.php?MTID=t6cbc6c13d4aeab46fd3e93caa597b394 and register.
Grant application submissions due | December 18, 2015, 4 p.m. (ET)
Final implementation due | August 26, 2016.
Final Presentations | August 31, 2016.

The grant proposal is due December 18, 2015, at 4:00 p.m. Eastern Time. The proposal should be packaged for delivery to permit timely arrival. The proposal package should be sent or hand delivered to the address in the ADDRESSES section of this notice.

Faxed applications will NOT be accepted. Email submissions will be accepted at the address in the ADDRESSES section of this notice. Email submissions are limited to attachments compatible with Microsoft Office Word 2007 or later or files with a .pdf file extension. Emailed submissions shall not exceed 3MB total in size.

Proposals submitted by Federal Express or Express Mail should be sent two or more days prior to the closing date. The proposal package should be sent to the address shown in the ADDRESSES section of this notice. The tribe is solely responsible for ensuring its proposal arrives in a timely manner.

The information collection requirements contained in this notice have been approved by the Office of Management and Budget (OMB) under 44 U.S.C. 3504(h). The OMB control number is 1076-0182. The authorization expires on March 31, 2018. An agency may not sponsor, and you are not required to respond to, any information collection that does not display a currently valid OMB Control Number.

The information collected is used to determine whether a tribe is eligible for the Sovereignty in Indian Education Grant and to determine whether the tribe is using the funding for the stated purpose of promoting tribal sovereignty in BIE-funded schools. The information is supplied by the respondents to obtain and/or retain a benefit. The public reporting burden is estimated to be between 1 and 40 hours per response. This includes the time needed to understand the requirements; gather the information; complete the proposal, quarterly budget reports, and the annual report; and submit to the Department. Comments regarding the burden or other aspects of the information collection may be directed to the Information Collection Clearance Officer—Indian Affairs, 1849 C Street NW., MS-3642, Washington, DC 20240.

Dated: November 20, 2015.
Kevin K. Washburn,
Assistant Secretary—Indian Affairs.

[FR Doc. 2015-30806 Filed 12-4-15; 8:45 am]

BILLING CODE 4337-15-P